NUCLEAR REGULATORY COMMISSION

Advisory Committee on Reactor Safeguards

In accordance with the purposes of Sections 29 and 182b of the Atomic Energy Act (42 U.S.C. 2039, 2232b), the Advisory Committee on Reactor Safeguards (ACRS) will hold a meeting on November 5-7, 2009, 11545 Rockville Pike, Rockville, Maryland. The date of this meeting was previously published in the Federal Register on Monday, October 6, 2008, (73 FR 58268-58269).

Thursday, November 5, 2009, Conference Room T2-B3, Two White Flint North, Rockville, Maryland.

8:30 a.m.-8:35 a.m.: Opening Remarks by the ACRS Chairman (Open)—The ACRS Chairman will make opening remarks regarding the conduct of the meeting.

8:35 a.m.-10:30 a.m.: Amendments to the AP1000 Design Control Document (DCD) (Open)—The Committee will hear presentations by and hold discussions with representatives of the NRC staff and Westinghouse Electric Company regarding amendments to the AP1000 DCD and related matters.

10:45 a.m.-12:15 p.m.: Draft Final Regulatory Guide 5.71, “Cyber Security Programs for Nuclear Facilities” (Open/Closed)—The Committee will hear presentations by and hold discussions with representatives of the NRC staff regarding draft final Regulatory Guide 5.71, “Cyber Security Programs for Nuclear Facilities,” NRC staff's resolution of public comments, and related matters. [Note: A portion of this session may be closed to discuss and protect information classified as National Security Information as well as Safeguards Information pursuant to 5 U.S.C. 552b (c) (1) and (3).]

1:15 p.m.-3:15 p.m.: Overview of the Advanced Boiling Water Reactor (ABWR) Design as Applied to the South Texas Project (STP) Combined License Application (COLA) (Open/Closed)—The Committee will hear presentations by and hold discussions with representatives of the NRC staff and the STP Nuclear Operating Company regarding an overview of the ABWR design as it applies to the STP COLA and related matters. [Note: A portion of this session may be closed to discuss and protect information classified as National Security Information as well as Safeguards Information pursuant to 5 U.S.C. 552b (c) (1) and (3).]

3:30 p.m.-5:30 p.m.: NRC Staff's Plan for the STP COLA Review (Open)—The Committee will hear presentations by and hold discussions with representatives of the NRC staff regarding staff's plan for reviewing the STP COLA and related matters.

5:45 p.m.-7 p.m.: Preparation of ACRS Reports (Open)—The Committee will discuss proposed ACRS reports on matters discussed during this meeting.

Friday, November 6, 2009, Conference Room T2-B3, Two White Flint North, Rockville, Maryland.

8:30 a.m.-8:35 a.m.: Opening Remarks by the ACRS Chairman (Open)—The ACRS Chairman will make opening remarks regarding the conduct of the meeting.

8:35 a.m.-10 a.m.: Future ACRS Activities/Report of the Planning and Procedures Subcommittee (Open/Closed)—The Committee will discuss the recommendations of the Planning and Procedures Subcommittee regarding items proposed for consideration by the Full Committee during future ACRS meetings, including anticipated workload and member assignments, review of applications for membership, and related matters. [Note: A portion of this session may be closed pursuant to 5 U.S.C. 552b (c)(2) and (6) to discuss organizational and personnel matters that relate solely to internal personnel rules and practices of ACRS, and information the release of which would constitute a clearly unwarranted invasion of personal privacy.]

10 a.m.-10:15 a.m.: Reconciliation of ACRS Comments and Recommendations (Open)—The Committee will discuss the responses from the NRC Executive Director for Operations to comments and recommendations included in recent ACRS reports and letters.

10:30 a.m.-12 p.m.: Preparation for Meeting with the Commission on December 4, 2009 (Open)—The Committee will discuss topics for its meeting with the Commission on December 4, 2009.

1 p.m.-3:30 p.m.: Draft ACRS Report on the NRC Safety Research Program (Open)—The Committee will discuss the draft ACRS report on the NRC Safety Research Program.

3:45 p.m.-4:45 p.m.: Significant Operating Experience (Open)—The Committee will hear a report by and hold discussions with the Chairman of the ACRS Subcommittee on Plant Operations and Fire Protection regarding significant operating events, insights gained from these events, and any follow-up actions by the Subcommittee and/or the Full Committee.

4:45 p.m.-5:15 p.m.: Subcommittee Reports (Open)—The Committee will hear reports by and hold discussions with the Chairmen of the ACRS Subcommittees regarding: Resolution of Open Items associated with the review of the ESBWR Design Certification; the Evolutionary Power Reactor (EPR) Design Certification Application Review; and the NUREG-1520, “Standard Review Plan for Review of a License Application for a Fuel Cycle Facility,” that were discussed during the meetings on October 20-22, November 3, and 4, 2009, respectively.

5:30 p.m.-7 p.m.: Preparation of ACRS Reports (Open)—The Committee will discuss proposed ACRS reports.

Saturday, November 7, 2009, Conference Room T2-B3, Two White Flint North, Rockville, Maryland

8:30 a.m.-10 a.m.: Preparation of ACRS Reports (Open)—The Committee will continue its discussion of proposed ACRS reports.

10:15 a.m.-1 p.m.: Process for ACRS Review of Amendments to the DCD of Previously Certified Reactor Designs (Open)—The Committee will discuss potential enhancements to the current ACRS process for reviewing amendments to the DCDs related to previously certified reactor designs.

1 p.m.-1:30 p.m.: Miscellaneous (Open)—The Committee will continue its discussion related to the conduct of Committee activities and specific issues that were not completed during previous meetings.

Procedures for the conduct of and participation in ACRS meetings were published in the Federal Register on October 14, 2009, (74 FR 52829-52830). In accordance with those procedures, oral or written views may be presented by members of the public, including representatives of the nuclear industry. Thirty-five hard copies of each presentation or handout should be provided to the Designated Federal Official 30 minutes before the meeting. In addition, one electronic copy of each presentation should be emailed to the Designated Federal Official one day before the meeting. If an electronic copy cannot be provided within this timeframe, presenters should provide the Designated Federal Official with a CD containing each presentation at least 30 minutes before the meeting. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss organizational and personnel matters that relate solely to internal personnel rules and practices of ACRS, and information the release of which constitute a clearly unwarranted invasion of personal privacy pursuant to 5 U.S.C. 552b(c)(2) and (6). In addition it may be necessary to close portion of the meeting to protect information classified as national security, as well as safeguards information pursuant to 5 U.S.C. 552b(c)(1),(2) and (3).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact

Mr. Theron Brown, ACRS Audio Visual Technician (301-415-8066), between 7:30 a.m. and 3:45 p.m., (ET), at least 10 days before the meeting to ensure the availability of this service.

Individuals or organizations requesting this service will be responsible for telephone line charges and for providing the equipment and facilities that they use to establish the video teleconferencing link. The availability of video teleconferencing services is not guaranteed.

Dated: October 15, 2009.
Andrew L. Bates,
Advisory Committee Management Officer.

[FR Doc. E9-25320 Filed 10-21-09; 8:45 am]

BILLING CODE 7590-01-P